DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on December 11, 2025. See SUPPLEMENTARY INFORMATION section for relevant dates.

FOR FURTHER INFORMATION CONTACT: OFAC: Associate Director for Global Targeting, 202-622-2420; Assistant Director for Sanctions Compliance, 202-622-2490; or https://ofac.treasury.gov/contact-ofac.

SUPPLEMENTARY INFORMATION:

Electronic Availability

The SDN List and additional information concerning OFAC sanctions programs are available on OFAC's website: https://ofac.treasury.gov.

Notice of OFAC Action

On December 11, 2025, OFAC determined that the property and interests in property subject to U.S. jurisdiction of the following persons are blocked under the relevant sanctions authorities listed below.

Individuals

1. CAMPO FLORES, Efrain Antonio, Caracas, Venezuela; DOB 25 Aug 1986; POB Valencia, Venezuela; nationality Venezuela; Gender Male; Cedula No. 18330183 (Venezuela); Passport 081303148 (Venezuela) expires 28 Nov 2018 (individual) [ILLICIT-DRUGS-EO14059].

Designated pursuant to section 1(a)(i) of Executive Order 14059 of December 15, 2021, “Imposing Sanctions on Foreign Persons Involved in the Global Illicit Drug Trade,” (E.O. 14059) for having engaged in, or attempted to engage in, activities or transactions that have materially contributed to, or pose a significant risk of materially contributing to, the international proliferation of illicit drugs or their means of production.

2. CARRETERO NAPOLITANO, Ramon, Panama City, Panama; DOB 08 May 1965; POB Colon, Panama; nationality Panama; Gender Male; Cedula No. 388114 (Panama); Passport 1874513 (Panama) expires 28 Mar 2017 (individual) [VENEZUELA-EO13850].

Designated pursuant to section l(a)(i) of Executive Order 13850 of November 1, 2018, “Blocking Property of Additional Persons Contributing to the Situation in Venezuela” (E.O. 13850), for operating in the oil sector of the Venezuelan economy.

3. FLORES DE FREITAS, Franqui Francisco, Caracas, Venezuela; DOB 14 Aug 1985; POB Caracas, Venezuela; nationality Venezuela; Gender Male; Cedula No. 17751244 (Venezuela); Passport 066981222 (Venezuela) expires 24 Jan 2018 (individual) [ILLICIT-DRUGS-EO14059].

Designated pursuant to section 1(a)(i) of E.O. 14059 for having engaged in, or attempted to engage in, activities or transactions that have materially contributed to, or pose a significant risk of materially contributing to, the international proliferation of illicit drugs or their means of production.

4. MALPICA FLORES, Carlos Erik, Naguanagua, Carabobo, Venezuela; DOB 17 Sep 1972; nationality Venezuela; Gender Male; Cedula No. 11810943 (Venezuela) (individual) [VENEZUELA].

Designated pursuant to section 1(a)(ii)(C) of Executive Order 13692 of March 8, 2015, “Blocking Property and Suspending Entry of Certain Persons Contributing to the Situation in Venezuela,” for being a current or former official of the Government of Venezuela.

Entities

5. ARCTIC VOYAGER INCORPORATED (a.k.a. ARCTIC VOYAGER INC), Trust Company Complex, Ajeltake Road, Majuro, Ajeltake Island 96960, Marshall Islands; Organization Established Date 08 Nov 2024; Identification Number IMO 0109600; Business Registration Number 128742 (Marshall Islands) [VENEZUELA-EO13850] (Linked To: KIARA M).

Designated pursuant to section l(a)(i) of E.O. 13850, for operating in the oil sector of the Venezuelan economy.

6. FULL HAPPY LIMITED, Trust Company Complex, Ajeltake Road, Majuro, Ajeltake Island 96960, Marshall Islands; Organization Established Date 03 Mar 2023; Identification Number IMO 6405624; Business Registration Number 118736 (Marshall Islands) [VENEZUELA-EO13850] (Linked To: MONIQUE).

Designated pursuant to section l(a)(i) of E.O. 13850, for operating in the oil sector of the Venezuelan economy.

7. MYRA MARINE LIMITED, Trust Company Complex, Ajeltake Road, Majuro, Ajeltake Island 96960, Marshall Islands; Organization Established Date 24 Sep 2024; Identification Number IMO 0088934; Business Registration Number 128049 (Marshall Islands) [VENEZUELA-EO13850] (Linked To: WHITE CRANE).

Designated pursuant to section l(a)(i) of E.O. 13850, for operating in the oil sector of the Venezuelan economy.

8. POWEROY INVESTMENT LIMITED (a.k.a. POWEROY INVESTMENT LTD), Virgin Islands, British; Identification Number IMO 6438512 [VENEZUELA-EO13850] (Linked To: H. CONSTANCE).

Designated pursuant to section l(a)(i) of E.O. 13850, for operating in the oil sector of the Venezuelan economy.

9. READY GREAT LIMITED, Trust Company Complex, Ajeltake Road, Majuro, Ajeltake Island 96960, Marshall Islands; Organization Established Date 06 Jul 2023; Identification Number IMO 0017035; Business Registration Number 120806 (Marshall Islands) [VENEZUELA-EO13850] (Linked To: LATTAFA).

Designated pursuant to section l(a)(i) of E.O. 13850, for operating in the oil sector of the Venezuelan economy.

10. SINO MARINE SERVICES LIMITED (a.k.a. SINO MARINE SERVICES LTD), 14, Wells View Drive, Bromley, Kent BR2 9UL, United Kingdom; Organization Established Date 01 Jan 2016; Identification Number IMO 5967460; Company Number 10214578 (United Kingdom) [VENEZUELA-EO13850] (Linked To: TAMIA).

Designated pursuant to section l(a)(i) of E.O. 13850, for operating in the oil sector of the Venezuelan economy.

On December 12, 2025, OFAC also identified the following vessels as property in which a blocked person has an interest under the relevant sanctions authority listed below.

Vessels

1. H. CONSTANCE (3E2177) Crude Oil Tanker Panama flag; Vessel Year of Build 2002; Vessel Registration Identification IMO 9237773; MMSI 352002009 (vessel) [VENEZUELA-EO13850] (Linked To: POWEROY INVESTMENT LIMITED).

Identified as property in which POWEROY INVESTMENT LIMITED, a person whose property and interests in property are blocked pursuant to E.O. 13850, has an interest.

2. KIARA M (3E2278) Crude Oil Tanker Panama flag; Vessel Year of Build 2004; Vessel Registration Identification IMO 9285823; MMSI 352002348 (vessel) [VENEZUELA-EO13850] (Linked To: ARCTIC VOYAGER INCORPORATED).

Identified as property in which ARCTIC VOYAGER INCORPORATED, a person whose property and interests in property are blocked pursuant to E.O. 13850, has an interest.

3. LATTAFA (3E2298) Crude Oil Tanker Panama flag; Vessel Year of Build 2003; Vessel Registration Identification IMO 9245794 (vessel) [VENEZUELA-EO13850] (Linked To: READY GREAT LIMITED).

Identified as property in which READY GREAT LIMITED, a person whose property and interests in property are blocked pursuant to E.O. 13850, has an interest.

4. MONIQUE (E5U5122) Crude Oil Tanker Cook Islands flag; Vessel Year of Build 2005; Vessel Registration Identification IMO 9311270; MMSI 518999141 (vessel) [VENEZUELA-EO13850] (Linked To: FULL HAPPY LIMITED).

Identified as property in which FULL HAPPY LIMITED, a person whose property and interests in property are blocked pursuant to E.O. 13850, has an interest.

TAMIA (VRXC8) Crude Oil Tanker Hong Kong flag; Other Vessel Flag China; Vessel Year of Build 2006; Vessel Registration Identification IMO 9315642; MMSI 477186300 (vessel) [VENEZUELA-EO13850] (Linked To: SINO MARINE SERVICES LIMITED).

Identified as property in which SINO MARINE SERVICES LIMITED, a person whose property and interests in property are blocked pursuant to E.O. 13850, has an interest.

5. WHITE CRANE (HOA6213) Crude Oil Tanker Panama flag; Vessel Year of Build 2007; Vessel Registration Identification IMO 9323429; MMSI 352003199 (vessel) [VENEZUELA-EO13850] (Linked To: MYRA MARINE LIMITED).

Identified as property in which MYRA MARINE LIMITED, a person whose property and interests in property are blocked pursuant to E.O. 13850, has an interest.

Bradley T. Smith,
Director, Office of Foreign Assets Control.

[FR Doc. 2025-24067 Filed 12-30-25; 8:45 am]

BILLING CODE 4810-AL-P